DEPARTMENT OF HEALTH AND HUMAN SERVICES

Centers for Disease Control and Prevention

[60Day-20-20PM; Docket No. CDC-2020-0072]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Oral Health Basic Screening Survey for Children. The project provides state-specific data on dental caries (tooth decay) and dental sealants from a state-representative sample of elementary school children or children enrolled in Head Start programs and has been used by states to monitor oral health status of children and evaluate public health programs and policies.

DATES: CDC must receive written comments on or before August 31, 2020.

ADDRESSES: You may submit comments, identified by Docket No. CDC-2020-0072 by any of the following methods:

• Federal eRulemaking Portal: http://www.Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to http://www.regulations.gov/.

Please note: Submit all comments through the Federal eRulemaking portal (http://www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Oral Health Basic Screening Survey for Children—Existing Collection in Use Without an OMB Control Number—National Center for Chronic Disease Prevention and Health Promotion (NCCDPHP), Centers for Disease Control and Prevention (CDC)

Background and Brief Description

Dental caries (tooth decay) is one of the most common chronic diseases among children in the United States and can lead to pain, infection, and diminished quality of life throughout the lifespan. Dental sealants are a cost-effective measure to prevent caries but remain underutilized.

To address states' critical need for state-level oral health surveillance data on dental caries and sealants, the Association of State and Territorial Dental Directors (ASTDD) developed and released an oral health screening survey protocol referred to as the Basic Screening Survey (BSS) in 1999 in collaboration with the Ohio Department of Health and with technical assistance from the CDC's Division of Oral Health.

BSS is a non-invasive visual observation of the mouth performed by trained screeners including dental and non-dental health professionals (e.g., dentists, hygienists, school nurses). The BSS data collection is not duplicative of any other federal collection. Though the National Health and Nutrition Examination Survey (NHANES) collects national data on oral health status including dental caries and sealants based on clinical examination, it is not designed to provide state-level data. BSS is designed to be easy to perform, while being consistent and aligned with the oral health Healthy People objectives, which are based on NHANES measures. BSS is the only data source that provides state-representative data on oral health status based on clinical examination. BSS is also used to monitor state progress toward key national oral health objectives.

The BSS is a state-tailored survey administered and conducted by individual states. CDC has supported some of the 50 states to build and maintain their oral health surveillance system and ASTDD to provide technical assistance to states through state and partner cooperative agreements since 2001. Conducting BSS for third graders is a key component of that support.

The target populations include school children in grades K-3 and children enrolled in Head Start in 50 states and Washington, DC. ASTDD and CDC recommend that states conduct BSS at minimum for third graders at least once every five years. Individual states determine how often to conduct BSS and which grade or grades to target based on their program needs and available resources. Forty-seven states have conducted BSS for children, and all 47 conducted third grade BSS. Thirty-two states also have conducted BSS in one or more other grades (K-2) or in Head Start. CDC estimates that approximately 34 states, including 20 states currently funded by CDC, will conduct one BSS, at least for third grade, during the period for which this approval is being sought.

State health departments administer the survey by determining probability samples, arranging logistics with selected schools or Head Start sites, gaining consent, obtaining demographic data, training screeners, conducting the oral health screening at schools or Head Start sites. Screeners record four data points either electronically or on a paper form: (1) Presence of treated caries, (2) presence of untreated tooth decay, (3) urgency of need for treatment, and (4) presence of dental sealants on at least one permanent molar tooth.

State programs enter, clean and analyze the data; de-identify it; and respond to ASTDD's annual email request for state-aggregated prevalence of dental caries and sealants. ASTDD reviews the data to ensure that both survey design and data meet specific criteria before sending it to CDC for publication on the CDC's public-facing Oral Health Data website (http://www.cdc.gov/oralhealthdata).

BSS for children serves as a key state oral health surveillance data source and facilitates state capacity to (1) monitor children's oral health status, trends, and disparities, and compare with other states; (2) inform planning, implementation and evaluation of effective oral health programs and policies; (3) measure state progress toward Healthy People objectives; and (4) educate the public and policy makers regarding cross-cutting public health programs. CDC also uses the data to evaluate performance of CDC oral health funding recipients.

There are no costs to children respondents except their time. The estimated total annualized burden hours for the survey across the 34 states over the three years of this request are 40,207 with an average of 1,183 per state.

Estimated Annualized Burden Hours
Type of respondents | Form name | Number of respondents | Number of responses per respondent | Average burden per response (in hours) | Total burden (in hours)
Child | Screening form | 150,370 | 1 | 5/60 | 12,531
Parent/caretaker | Consent | 150,370 | 1 | 1/60 | 2,506
Screener | Screening form | 301 | 1 | 666/60 | 3,341
School/site | Participation form | 2,890 | 1 | 68/60 | 3,275
State Official | Data Submission form | 34 | 1 | 32,742/60 | 18,554
Total |  |  |  |  | 40,207

Jeffrey M. Zirger,
Lead, Information Collection Review Office, Office of Scientific Integrity, Office of Science, Centers for Disease Control and Prevention.

[FR Doc. 2020-14332 Filed 7-1-20; 8:45 am]

BILLING CODE 4163-18-P